NUCLEAR REGULATORY COMMISSION

Advisory Committee on Reactor Safeguards; Revised

The agenda for the 498th meeting of the Advisory Committee on Reactor Safeguards scheduled to be held on December 5-7, 2002, in Conference Room T-2B3, 11545 Rockville Pike, Rockville, Maryland, has been revised to Close the following session on Thursday, December 5, 2002.

1:30 P.M.—2:15 P.M.: Meeting with Mr. Lawrence Williams, Her Majesty's Chief Inspector, Nuclear Installations Inspectorate (NII), United Kingdom (U.K.) (Closed)—The Committee will hold discussions with Mr. Williams, NII, U.K., regarding several items of mutual interest, including pre-decisional plans to expand the nuclear program in U.K. [Note: This session will be closed to protect information provided in confidence by a foreign source pursuant to 5 U.S.C. 552b(c)(4).]

The agenda for December 6 and 7, 2002, remains the same as previously published in the Federal Register on Wednesday, November 20, 2002 (67 FR 70094).

For further information, contact: Dr. Sher Bahadur, Associate Director for Technical Support, ACRS, (Telephone: 301-415-0138), between 7:30 a.m. and 4:15 p.m., EST.

Dated: November 21, 2002.
Andrew L. Bates,
Advisory Committee Management Officer.

[FR Doc. 02-30100 Filed 11-26-02; 8:45 am]

BILLING CODE 7590-01-P